DEPARTMENT OF TRANSPORTATION

Federal Aviation Administration

Public Notice for Waiver of Aeronautical Land-Use Assurance; St. Louis Regional Airport, East Alton, IL

AGENCY: Federal Aviation Administration, DOT.

ACTION: Notice of intent of waiver with respect to land.

SUMMARY: The Federal Aviation Administration (FAA) is considering a proposal for the sale of a portion of the airport (2 acres, a portion of Parcel 19-2-08-13-03-303-006 and Parcel 19-2-08-13-03-303-007, located along the west side of East Airline Drive and east of Skyway Ct., presently open unused airport land) that is not needed for aeronautical use, as shown on the Airport Layout Plan. The revenue from this proposed sale will be used for the acquisition of property that will provide access to the airport property from Illinois Route 140 to the airport's northeast quadrant and/or other airport development. Parcel 19-2-08-13-03-303-006 and Parcel 19-2-08-13-03-303-007 are parts of the original parcel 19-2-08-13-03-303-004 that was purchased fee simple by the airport on May 8, 1977, with no Federal participation.

In accordance with section 47107(h) of title 49, United States Code, this notice is required to be published in the Federal Register 30 days before modifying the land-use assurance that requires the property to be used for an aeronautical purpose. The release of this portion of Parcel 19 will facilitate the acquisition of property adjacent to Illinois Route 140 and will provide access to the airport property from Illinois Route 140 to the airport's northeast quadrant, thereby allowing further airport development in the northeast quadrant.

DATES: Comments must be received on or before January 28, 2008.

ADDRESSES: Al Richardson, Program Manager, 2300 East Devon Avenue, Des Plaines, IL 60018. Telephone Number 847-294-7436/Fax Number 847-294-7046.

FOR FURTHER INFORMATION CONTACT: Al Richardson, Program Manager, 2300 East Devon Avenue, Des Plaines, IL 60018. Telephone Number 847-294-7436/Fax Number 847-294-7046. Documents reflecting this FAA action may be reviewed at this same location or at St. Louis Regional Airport, East Alton, Illinois.

SUPPLEMENTARY INFORMATION: This notice announces that the FAA intends to authorize the disposal of the subject airport property at St. Louis Regional Airport, East Alton, Illinois. Approval does not constitute a commitment by the FAA to financially assist in disposal of the subject airport property nor a determination that all measures covered by the program are eligible for grant-in-aid funding from the FAA. The disposition of proceeds from the disposal of the airport property will be in accordance with FAA's Policy and Procedures Concerning the Use of Airport Revenue, published in the Federal Register on February 16, 1999.

Issued in Des Plaines, Illinois, on November 20, 2007.
Jack Delaney,
Acting Manager, Chicago Airports District Office, FAA, Great Lakes Region.

[FR Doc. 07-6191 Filed 12-27-07; 8:45 am]

BILLING CODE 4910-13-M